ENVIRONMENTAL PROTECTION AGENCY

[ER-FRL-6646-5]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7146. An explanation of the ratings assigned to draft environmental impact statements (EISs) was published in FR dated April 04, 2003 (68 FR 16511).

Draft EISs

ERP No. D-AFS-K65260-AZ Rating EC2, Rodeo-Chediski Fire Salvage Project, Timber Harvest of Merchantable Dead Trees as Sawtimber and Products other than Lumber (POL), Implementation, Apache-Sitgreaves and Tonto National Forest, Apache, Coconino and Navajo Counties, AZ.

Summary: EPA expressed environmental concerns with potential adverse impacts to water quality and wildlife. The preferred alternative requires harvesting on steep slopes with highly erosive soils which may further impact 303(d) listed streams, aquatic resources and habitat for the Western Spotted Owl.

ERP No. D-AFS-L65428-ID Rating NS, Twin Creek Timber Sale Project, Proposal to Cut and Remove Lodgepole Pine Sawtimber and Road Construction/Reconstruction, Montpelier Ranger District, Caribou National Forest, U.S. Army Corps of Engineers Permit, Bear Lake County, ID.

Summary: Region 10 has used a screening tool to conduct a limited review of this action. Based upon this screen, EPA does not foresee having any environmental objections to the proposed project.

ERP No. D-AFS-L65435-ID Rating EC2, Mission Brush Project, Proposes Vegetation, Wildlife Habitat, Recreation and Aquatic Improvement Treatments, Idaho Panhandle National Forests, Bonners Ferry Ranger District, Bounty County, ID.

Summary: EPA expressed environmental concerns regarding potential adverse impacts to water quality, invasive species, biodiversity, and cumulative impacts.

ERP No. D-HHS-D81034-MD Rating EC2, Integrated Research Facility (IRF) at Fort Detrick Construction and Operation, Adjacent to Existing U.S. Army Medical Research Institute of Infectious Diseases Facilities, City of Frederick, Frederick County, MD.

Summary: EPA expressed concerns regarding the Laboratory Sewer System's (LSS) possible contamination from biological warfare liquid wastes and radioactive materials to the proposed integrated Research Facility (IRF). EPA requested the FEIS specify the degree of contamination and remedial efforts to mitigate contamination from the LSS and indicate the U.S. Army's commitment to provide follow-up studies on post IRF activities.

ERP No. DA-FTA-K40237-CA Rating LO, Orange County Centerline Project, Transportation Improvements, Updated Information concerning Four New Alternatives and Re-examining an Updated New No Build Alternative, City of Santa Ana through the City of Casta Mesa to the City of Irvine, Funding, Orange County, CA.

Summary: EPA has no objections regarding the environmental impacts of the proposed project.

Final EISs

ERP No. F-AFS-E65087-AL Forest Health and Restoration Project, Proposal to Determine the Desired Future Conditions of all Existing Loblolly Pine Stands, National Forests in Alabama, Bankhead National Forest, Winston, Lawrence and Franklin Counties, AL.

Summary: EPA has no objections to this project, provided mitigation measures and monitoring programs described in the final EIS are implemented.

ERP No. F-AFS-L65409-AK, Licking Creek Timber Sale, Timber Harvest, Implementation, Tongass National Forest, Ketchikan Misty Fiords Ranger District, Revillagigedo Island, Ketchikan, AK.

Summary: No formal comment letter was sent to the preparing agency.

ERP No. F-AFS-L65419-ID, Upper and Lower East Fork Cattle and Horse Allotment Management Plans, Updating the Allotment Plans to Allow Permitted Livestock Grazing, National Forest System Lands, Sawthooth and Challis National Forests, Custer County, ID.

Summary: No formal comment letter was sent to the preparing agency.

ERP No. F-AFS-L65424-ID, North End Sheep Allotment Management Plan (AMP) Revision, Proposal to Authorize Continued Livestock Use, Caribou-Targhee National Forest, Soda Springs Ranger District, Caribou and Bonneville Counties, ID.

Summary: No formal comment letter was sent to the preparing agency.

ERP No. F-FHW-L40202-WA, I-5 Toutle Park Road to Maytown Transportation Improvements, Funding, U.S. Army COE section 404 Permit, U.S. Coast Guard Permit and NPDES Permit Issuance, Cowlitz, Lewis and Thurston Counties, WA.

Summary: EPA has environmental concerns with the proposed project regarding the cumulative affects analyses in that many of the conclusions were either not presented clearly or did not appear to be supported by technical information. EPA recommends the use of the information in the cumulative effects analyses be augmented, as appropriate, in the further development and evaluation of projects that would tier from this EIS.

ERP No. F-FTA-G40170-TX, Northwest Corridor Light Rail Transit (LRT) Line to Farmers Branch and Carrollton, Construction and Operation, NPDES and U.S. Army COE section 404 Permits Issuance, Dallas Area Rapid Transit, Dallas and Denton Counties, TX.

Summary: No formal comment letter was sent to the preparing agency.

ERP No. F-FTA-G54006-TX, Southeast Corridor Light Rail Transit Project, Construction and Operation, Funding, NPDES Permit and U.S. Army COE section 404 Permit Issuance and, Mobility 2025 Plan Update, Dallas Area Rapid Transit (DART), City of Dallas, Dallas County, TX.

Summary: No formal comment letter was sent to the preparing agency.

ERP No. F-SFW-K99032-CA, Western Riverside County Multiple Species Habitat Conservation Plan (MSHCP), Implementation, Incidental Take Permits Issuance, Riverside and Orange County, CA.

Summary: EPA has continuing environmental concerns and recommended that the following issues be addressed in the Record of Decision: (1) Once the Section 7 evaluation is concluded, the findings should be incorporated to verify which species will be covered within the MSHCP; (2) The ROD should include a timeline for executing legal agreements with public/quasi-public land owners; and (3) U.S. Fish and Wildlife Service should provide criteria to prioritize land acquisitions to ensure key areas are incorporated into the Reserve.

ERP No. FS-FHW-L50009-WA, Elliott Bridge No. 3166 Replacement, Updated and Reevaluated Information concerning Replacement of the 149th Avenue SE Crossing over the Cedar River, Funding, U.S. CGD Bridge Permit and U.S. Army COE section 404 Permit Issuance, City of Renton, King County, WA.

Summary: No formal comment letter was sent to the preparing agency.

Dated: December 9, 2003.
B. Katherine Biggs,
Director, NEPA Compliance Division, Office of Federal Activities.

[FR Doc. 03-30779 Filed 12-11-03; 8:45 am]

BILLING CODE 6560-50-P